DEPARTMENT OF ENERGY

Federal Energy Regulatory Commission

Combined Notice of Filings #1

Take notice that the Commission received the following exempt wholesale generator filings:

Docket Numbers: EG26-100-000.

Applicants: Rockhound Solar C, LLC.

Description: Rockhound Solar C, LLC submits Notice of Self-Certification of Exempt Wholesale Generator Status.

Filed Date: 12/12/25.

Accession Number: 20251212-5130.

Comment Date: 5 p.m. ET 1/2/26.

Docket Numbers: EG26-101-000.

Applicants: Greyhound Solar A, LLC.

Description: Greyhound Solar A, LLC submits Notice of Self-Certification of Exempt Wholesale Generator Status.

Filed Date: 12/12/25.

Accession Number: 20251212-5131.

Comment Date: 5 p.m. ET 1/2/26.

Docket Numbers: EG26-102-000.

Applicants: Rockhound Solar D, LLC.

Description: Rockhound Solar D, LLC submits Notice of Self-Certification of Exempt Wholesale Generator Status.

Filed Date: 12/12/25.

Accession Number: 20251212-5150.

Comment Date: 5 p.m. ET 1/2/26.

Take notice that the Commission received the following electric rate filings:

Docket Numbers: ER19-1644-006.

Applicants: Richland-Stryker Generation LLC.

Description: Compliance filing: Compliance Filing to Offer of Settlement.

Filed Date: 12/12/25.

Accession Number: 20251212-5267.

Comment Date: 5 p.m. ET 1/2/26.

Docket Numbers: ER25-2636-002.

Applicants: Central Hudson Gas & Electric Corporation, New York Independent System Operator, Inc.

Description: Compliance filing: New York Independent System Operator, Inc. submits tariff filing per 35: CHGE Compliance: Rate Schedule 12 Revisions to be effective 8/26/2025.

Filed Date: 12/12/25.

Accession Number: 20251212-5118.

Comment Date: 5 p.m. ET 1/2/26.

Docket Numbers: ER25-3480-003.

Applicants: MATL LLP.

Description: Compliance filing: Supplemental Compliance FIling ER25-3480 to be effective 12/19/2025.

Filed Date: 12/12/25.

Accession Number: 20251212-5062.

Comment Date: 5 p.m. ET 1/2/26.

Docket Numbers: ER26-388-001.

Applicants: Archtop Property Management, LLC.

Description: Tariff Amendment: Response to Deficiency Letter and Request for Shortened Comment Period to be effective 12/31/2025.

Filed Date: 12/12/25.

Accession Number: 20251212-5185.

Comment Date: 5 p.m. ET 12/22/25.

Docket Numbers: ER26-698-000; TS26-2-000.

Applicants: Great Bend Solar, LLC, Great Bend Solar, LLC.

Description: Petition for Limited Waiver of Great Bend Solar, LLC.

Filed Date: 12/4/25.

Accession Number: 20251204-5208.

Comment Date: 5 p.m. ET 12/26/25.

Docket Numbers: ER26-733-000.

Applicants: PJM Interconnection, L.L.C.

Description: § 205(d) Rate Filing: Amendment to GIA, SA No. 7554; Project Identifier No. AF1-188 to be effective 2/10/2026.

Filed Date: 12/11/25.

Accession Number: 20251211-5225.

Comment Date: 5 p.m. ET 1/1/26.

Docket Numbers: ER26-734-000.

Applicants: MEC Phase 1, LLC.

Description: § 205(d) Rate Filing: Co-Tenancy and SFA to be effective 1/1/2026.

Filed Date: 12/11/25.

Accession Number: 20251211-5230.

Comment Date: 5 p.m. ET 1/1/26.

Docket Numbers: ER26-735-000.

Applicants: MEC Phase 2, LLC.

Description: § 205(d) Rate Filing: Co-Tenancy and SFA Concurrence to be effective 1/1/2026.

Filed Date: 12/11/25.

Accession Number: 20251211-5253.

Comment Date: 5 p.m. ET 1/1/26.

Docket Numbers: ER26-736-000.

Applicants: CHPE LLC.

Description: Filing of Transmission Rights Agreement for Champlain Hudson Power Express of CHPE LLC.

Filed Date: 12/11/25.

Accession Number: 20251211-5256.

Comment Date: 5 p.m. ET 1/1/26.

Docket Numbers: ER26-737-000.

Applicants: Southern California Edison Company.

Description: Tariff Amendment: Termination of GIA & DSA, SCEBESS-017, Cadillac BESS (WDT1504/SA1017-1018) to be effective 12/24/2025.

Filed Date: 12/12/25.

Accession Number: 20251212-5129.

Comment Date: 5 p.m. ET 1/2/26.

Docket Numbers: ER26-738-000.

Applicants: Southwest Power Pool, Inc.

Description: § 205(d) Rate Filing: NEET SW Formula Rate Revisions (Crossroads) to be effective 1/1/2026.

Filed Date: 12/12/25.

Accession Number: 20251212-5135.

Comment Date: 5 p.m. ET 1/2/26.

Docket Numbers: ER26-739-000.

Applicants: Alabama Power Company, Georgia Power Company, Mississippi Power Company.

Description: Tariff Amendment: Alabama Power Company submits tariff filing per 35.15: Forsyth Solar LGIA Termination Filing to be effective 12/12/2025.

Filed Date: 12/12/25.

Accession Number: 20251212-5160.

Comment Date: 5 p.m. ET 1/2/26.

Docket Numbers: ER26-740-000.

Applicants: Tenaska Alabama Partners, L.P., Alabama Power Company.

Description: Tariff Amendment: Tenaska Alabama Partners, L.P. submits tariff filing per 35.15: Notice of Cancellation of Tenaska Alabama Partners MBR Tariff to be effective 12/13/2025.

Filed Date: 12/12/25.

Accession Number: 20251212-5164.

Comment Date: 5 p.m. ET 1/2/26.

Docket Numbers: ER26-741-000.

Applicants: Tucson Electric Power Company.

Description: § 205(d) Rate Filing: Service Agreement No. 610 to be effective 12/15/2025.

Filed Date: 12/12/25.

Accession Number: 20251212-5171.

Comment Date: 5 p.m. ET 1/2/26.

Docket Numbers: ER26-742-000.

Applicants: Midcontinent Independent System Operator, Inc.

Description: § 205(d) Rate Filing: 2025-12-12_Cancellation of Schedules 43K Rush Island & 43L Lakefront 9 to be effective 2/11/2026.

Filed Date: 12/12/25.

Accession Number: 20251212-5174.

Comment Date: 5 p.m. ET 1/2/26.

Docket Numbers: ER26-743-000.

Applicants: PJM Interconnection, L.L.C.

Description: § 205(d) Rate Filing: Proposed Revisions to RPM Seller Credit Provision to be effective 2/11/2026.

Filed Date: 12/12/25.

Accession Number: 20251212-5180.

Comment Date: 5 p.m. ET 1/2/26.

Docket Numbers: ER26-744-000.

Applicants: PPL Electric Utilities Corporation, Virginia Electric and Power Company.

Description: § 205(d) Rate Filing: Virginia Electric and Power Company submits tariff filing per 35.13(a)(2)(iii: PJM TOs Order No. 1920 Planning Revs to PJM Tariff Att. M-3 and M-5 to be effective 12/31/9998.

Filed Date: 12/12/25.

Accession Number: 20251212-5181.

Comment Date: 5 p.m. ET 1/2/26.

Docket Numbers: ER26-745-000.

Applicants: Ameren Transmission Company of Illinois.

Description: § 205(d) Rate Filing: Filing of a Joint Ownership Agreement to be effective 2/11/2026.

Filed Date: 12/12/25.

Accession Number: 20251212-5210.

Comment Date: 5 p.m. ET 1/2/26.

Docket Numbers: ER26-746-000.

Applicants: Midcontinent Independent System Operator, Inc.

Description: § 205(d) Rate Filing: 2025-12-12_Updates to the Default Technology Specific Avoidable Costs Filing to be effective 2/11/2026.

Filed Date: 12/12/25.

Accession Number: 20251212-5215.

Comment Date: 5 p.m. ET 1/2/26.

Docket Numbers: ER26-747-000.

Applicants: Midcontinent Independent System Operator, Inc., Ameren Transmission Company of Illinois.

Description: § 205(d) Rate Filing: Ameren Transmission Company of Illinois submits tariff filing per 35.13(a)(2)(iii: 2025-12-12_SA 4609 ATXI-UEC-MEC-Sikeston CSA to be effective 2/11/2026.

Filed Date: 12/12/25.

Accession Number: 20251212-5242.

Comment Date: 5 p.m. ET 1/2/26.

Docket Numbers: ER26-748-000.

Applicants: California Independent System Operator Corporation.

Description: § 205(d) Rate Filing: 2025-12-12 Amendment of Rate Schedule 8856, Notice Waiver & CEII Requests to be effective 12/30/2025.

Filed Date: 12/12/25.

Accession Number: 20251212-5263.

Comment Date: 5 p.m. ET 1/2/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 12, 2025.
Debbie-Anne A. Reese,
Secretary.

[FR Doc. 2025-23227 Filed 12-17-25; 8:45 am]

BILLING CODE 6717-01-P